DEPARTMENT OF AGRICULTURE

Natural Resources Conservation Service

[Docket No. NRCS-2013-0004]

Notice of Availability of the Record of Decision (ROD) and Findings of No Significant Impact (FONSI) for the Grand Prairie Area Demonstration Project

AGENCY: Natural Resources Conservation Service (NRCS), USDA.

ACTION: Notice of availability of Record of Decision and Findings of No Significant Impact.

SUMMARY: This notice announces NRCS' adoption, under provisions provided for in 40 CFR 1506.3 of the U.S. Army Corps of Engineers' Final Environmental Impact Statement (EIS) entitled: “General Reevaluation Report and Environmental Impact Statement for the Grand Prairie Demonstration Project dated September 1999” (GRR/EIS) and the availability of an associated NRCS ROD. NRCS has also adopted the two Environmental Assessments (EAs) associated with the project entitled: “Environmental Assessment Grand Prairie Area Demonstration Project, Post General Reevaluation Design Changes” (2004 EA) and “Environmental Assessment Grand Prairie Area Demonstration Project Canal Realignment and Pumping Station Borrow Area, Prairie County, Arkansas” (2010 EA), and an NRCS FONSI for each EA is available.

ADDRESSES: Copies of the ROD and FONSI are available upon request from the Natural Resources Conservation Service, Room 3416, Federal Building, 700 West Capitol Avenue, Little Rock, Arkansas 72201-3225.

FOR FURTHER INFORMATION CONTACT: Charlotte Bowie, State Irrigation Engineer, Natural Resources Conservation Service, Room 3416, Federal Building, 700 West Capitol Avenue, Little Rock, Arkansas 72201-3225; telephone: (501) 301-3148.

SUPPLEMENTARY INFORMATION: NRCS prepared the ROD and FONSI in compliance with the National Environmental Policy Act after reviewing the EIS and the EAs and concurring with the analysis and findings therein, and finding that the proposed project modifications described in the EAs will not result in significant impacts to the environment.

The Grand Prairie Area Demonstration Project is located in eastern Arkansas and includes portions of Prairie, Arkansas, Lonoke, and Monroe Counties. This project will provide for agricultural water supply, ground water protection, and wildlife enhancement within the project area. The project features include a major pumping station, conveyance channels and pipelines, and conservation measures for the Grand Prairie area.

Signed this 13th day of September, 2013, in Washington, DC
Terry J. Cosby,
Acting Regional Conservationist, Natural Resources Conservation Service.

[FR Doc. 2013-23134 Filed 9-23-13; 8:45 am]

BILLING CODE 3410-16-P